FEDERAL COMMUNICATIONS COMMISSION

[DA 24-531; FR ID 224901]

Consumer Advisory Committee; Announcement of Meeting

AGENCY: Federal Communications Commission.

ACTION: Notice.

SUMMARY: In this document, the Commission announces the second meeting of the twelfth term of its Consumer Advisory Committee (CAC or Committee).

DATES: Wednesday, June 26, 2024. The meeting will come to order at 11:00 a.m. Eastern Time.

ADDRESSES: The CAC meeting will be held remotely, with video and audio coverage at: www.fcc.gov/live.

FOR FURTHER INFORMATION CONTACT: Cara Grayer, Designated Federal Officer, Federal Communications Commission, (202) 418-2960, or email: cac@fcc.gov.

SUPPLEMENTARY INFORMATION: This meeting is open to members of the general public. The meeting will be webcast with sign language interpreters and open captioning at: www.fcc.gov/ live. In addition, a reserved amount of time will be available on the agenda for comments and inquiries from the public. Members of the public may comment or ask questions of presenters via livequestions@fcc.gov.

Requests for other reasonable accommodations or for materials in accessible formats for people with disabilities should be submitted via email to: fcc504@fcc.gov or by calling the Consumer and Governmental Affairs Bureau at (202) 418-0530. Such requests should include a detailed description of the accommodation needed and a way for the FCC to contact the requester if more information is needed to fill the request. Requests should be made as early as possible; last minute requests will be accepted but may not be possible to accommodate.

Proposed Agenda: At this meeting, the CAC is expected to (1) hold a facilitated conversation on the current and emerging challenges and opportunities in the area of artificial intelligence (AI); (2) receive updates from the working groups; and (3) address any other topics relevant to the CAC's work.

Federal Communications Commission.
Robert A. Garza,
Legal Advisor, Consumer and Government Affairs Bureau.

[FR Doc. 2024-12884 Filed 6-12-24; 8:45 am]

BILLING CODE 6712-01-P